FEDERAL COMMUNICATIONS COMMISSION

47 CFR Part 73

[DA 01-2629; MM Docket No. 01-141; RM-10146]

Radio Broadcasting Services; Las Vegas and Pecos, NM

AGENCY: Federal Communications Commission.

ACTION: Final rule.

SUMMARY: In response to a proposal filed on behalf of Meadows Media, LLC, permittee of Station KTRL(FM), Channel 275C2, Las Vegas, New Mexico, the Allocations Branch substitutes Channel 275C3 for Channel 275C2 at Las Vegas, reallots Channel 275C3 to Pecos, New Mexico, as that community's second local FM service, and modifies the authorization for Station KTRL(FM), accordingly. This document also allots Channel 283C2 to Las Vegas, New Mexico, as that community's fifth local FM service, as requested by Meadows Media, LLC. See 66 FR 35925, July 10, 2001. Coordinates used for Channel 275C3 at Pecos, New Mexico, are those of the petitioner's intended transmitter site at 35-40-15 NL and 105-33-06 WL. Coordinates used for Channel 283C2 at Las Vegas, New Mexico are those at the currently authorized site of Station KTRL(FM) at 35-35-57 NL and 105-12-12 WL. With this action, this docketed proceeding is terminated.

DATES: Effective December 24, 2001. A filing window for Channel 283C2 at Pecos, New Mexico, will not be opened at this time. Instead, the issue of opening this allotment for auction will be addressed by the Commission in a subsequent Order.

FOR FURTHER INFORMATION CONTACT: Nancy Joyner, Mass Media Bureau, (202) 418-2180.

SUPPLEMENTARY INFORMATION: This is a synopsis of the Commission's Report and Order, MM Docket No. 01-141, adopted October 31, 2001, and released November 9, 2001. The full text of this Commission decision is available for inspection and copying during normal business hours in the FCC's Reference Information Center (Room CY-A257), 445 12th Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under New Mexico is amended by removing Channel 275C2 and adding Channel 283C2 at Las Vegas, and adding Channel 275C3 at Pecos.

Federal Communications Commission.
John A. Karousos,
Chief, Allocations Branch, Policy and Rules Division, Mass Media Bureau.

[FR Doc. 01-29084 Filed 11-20-01; 8:45 am]

BILLING CODE 6712-01-P